NATIONAL SCIENCE FOUNDATION

Advisory Committee for Mathematical and Physical Sciences; Notice of Meeting

In accordance with Federal Advisory Committee Act (Pub. L. 92-463, as amended), the National Science Foundation announces the following meeting:

Name: Mathematical and Physical Sciences Advisory Committee (#66).

Date/Time: April 7, 2010 8 a.m.-6 p.m., April 8, 2010 8 a.m.-3 p.m.

Place: National Science Foundation, Room 1235, 4201 Wilson Boulevard, Arlington.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda:

Update on current status of Directorate

Report of MPS Committee of Visitors

Report of NSF Advisory Working Groups

Meeting of MPSAC with Divisions within MPS Directorate

Discussion of MPS Long-term Planning Activities

Summary Minutes: May be obtained from the contact person listed above.

Dated: March 15, 2011.
Susanne E. Bolton,
Committee Management Officer.

[FR Doc. 2011-6397 Filed 3-17-11; 8:45 am]

BILLING CODE 7555-01-P